DEPARTMENT OF DEFENSE

Office of the Secretary

[Docket ID: DoD-2025-HA-0220]

Submission for OMB Review; Comment Request

AGENCY: Office of the Assistant Secretary of Defense for Health Affairs (OASD(HA)), Department of Defense (DoD).

ACTION: 30-Day information collection notice.

SUMMARY: The DoD has submitted to the Office of Management and Budget (OMB) for clearance the following proposal for collection of information under the provisions of the Paperwork Reduction Act.

DATES: Consideration will be given to all comments received by October 23, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Statement of Personal Injury: Possible Third-Party Liability; DD 2527; OMB Control Number 0720-0003.

Type of Request: Reinstatement.

Number of Respondents: 188,090.

Responses per Respondent: 1.

Annual Responses: 188,090.

Average Burden per Response: 15 minutes.

Annual Burden Hours: 47,023.

Needs and Uses: When a claim for TRICARE benefits is identified as involving possible third-party liability and the information is not submitted with the claim, the TRICARE contractors request that the injured party (or a designee) complete DD Form 2527. To protect the interests of the U.S. Government, the contractor suspends claims processing until the requested third-party liability information is received. The contractor conducts a preliminary evaluation based upon the collection of information and refers the case to a designated appropriate legal officer of the Uniformed Services. The responsible Uniformed Services legal officer uses the information as a basis for asserting and settling the U.S. Government's claim. When appropriate, the information is forwarded to the Department of Justice as the basis for litigation.

Affected Public: Individuals or households.

Frequency: As required.

Respondent's Obligation: Voluntary.

DoD Clearance Officer: Mr. Reginald Lucas.

Dated: September 19, 2025.
Stephanie J. Bost,
Alternate OSD Federal Register Liaison Officer, Department of Defense.

[FR Doc. 2025-18417 Filed 9-22-25; 8:45 am]

BILLING CODE 6001-FR-P